DEPARTMENT OF HOMELAND SECURITY

Coast Guard

[Docket No. USCG-2017-0734]

Navigation Safety Advisory Council; Vacancies

AGENCY: U.S. Coast Guard, Department of Homeland Security.

ACTION: Request for applications.

SUMMARY: The U. S. Coast Guard seeks applications for membership on the Navigation Safety Advisory Council.

The Navigation Safety Advisory Council provides advice and recommendations to the Secretary of Homeland Security, through the Commandant of the U.S. Coast Guard, on matters relating to maritime collisions, rammings, and groundings; Inland Rules of the Road; International Rules of the Road; navigation regulations and equipment, routing measures, marine information, diving safety, and aids to navigation systems.

DATES: Completed applications should be submitted to the U. S. Coast Guard on or before October 23, 2017.

ADDRESSES: Applicants should send a cover letter expressing interest in an appointment to the Navigation Safety Advisory Council that also identifies which membership category the applicant is applying under, along with a resume detailing the applicant's experience via one of the following methods:

• By Email: George.H.Detweiler@uscg.mil, Subject line: The Navigation Safety Advisory Council;

• By Fax: 202-372-1991 ATTN: Mr. George Detweiler, Alternate Designated Federal Officer; or

• By Mail: Commandant (CG-NAV-2)/NAVSAC Attn: Mr. George Detweiler, Alternate Designated Federal Officer, Commandant (CG-NAV-2), U.S. Coast Guard 2703 Martin Luther King Avenue SE., STOP 7418, Washington, DC 20593-7418

FOR FURTHER INFORMATION CONTACT: Mr. George Detweiler, Alternate Designated Federal Officer of the Navigation Safety Advisory Council; 202-372-1566 or email at George.H.Detweiler@uscg.mil.

SUPPLEMENTARY INFORMATION: The Navigation Safety Advisory Council is a federal advisory committee authorized by 33 U.S.C. 2073 and chartered under the provisions of the Federal Advisory Committee Act, (Title 5, U.S.C., Appendix).

The Navigation Safety Advisory Council provides advice and recommendations to the Secretary, through the Commandant of the U.S. Coast Guard, on matters relating to maritime collisions, rammings, and groundings; Inland Rules of the Road; International Rules of the Road; navigation regulations and equipment, routing measures, marine information, diving safety, and aids to navigation systems.

The Navigation Safety Advisory Council normally meets twice a year. All members serve at their own expense and receive no salary or other compensation from the Federal Government. The only exception to this policy is when attending the Navigation Safety Advisory Council meetings; members may be reimbursed for travel and expenses and provided per diem in accordance with Federal Travel Regulations.

The Coast Guard will consider applications for seven positions that will be vacant on November 4, 2017, in the following membership categories only:

a. Commercial vessel owners and operators;

b. Professional mariners;

c. Recreational boaters;

d. The recreational boating industry; and

e. The Maritime Law Association.

Each member will be appointed to represent the viewpoints and interests of one of the groups or organizations, and at least one member will be appointed to represent each membership category. All members serve as representatives and are not Special Government Employees as defined in Section 202(a), Title 18, U.S.C.

To be eligible, you should have experience in one of the categories listed above. Members serve terms of office of up to three (3) years. Members may be considered to serve up to two (2) consecutive terms. In the event the Navigation Safety Advisory Council terminates, all appointments to the Council terminate.

The Department of Homeland Security does not discriminate in selection of Council members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Council, send your cover letter and resume to

Mr. George Detweiler, the Navigation Safety Advisory Council, Alternate Designated Federal Officer via one of

the transmittal methods in the ADDRESSES section by the deadline in the DATES section of this notice. All email submittals will receive email receipt confirmation.

Dated: August 16, 2017.
Michael D. Emerson,
Director, Marine Transportation Systems.

[FR Doc. 2017-17749 Filed 8-21-17; 8:45 am]

BILLING CODE 9110-04-P